DEPARTMENT OF AGRICULTURE

Office of the Secretary

Privacy Act of 1974; Systems of Records USDA/OIG-1 through USDA/OIG-9

AGENCY: Office of Inspector General, USDA.

ACTION: Notice of amendment to systems of records; establishment of one new system of records; addition of four new routine uses; and republication of systems of records.

SUMMARY: In accordance with the Privacy Act, 5 U.S.C. 552a(e)(4) and (11), the United States Department of Agriculture (USDA), Office of Inspector General (OIG) proposes to revise its systems of records by establishing one new system of records, by deleting a current system of records, by adding new routine uses, and by making technical changes and corrections to certain existing routine uses and systems of records.

DATES: This action will be effective without further notice on September 22, 2015 unless comments are received that would result in a contrary determination. If comments are received, the comments will be considered and, where adopted, the document will be republished with changes.

ADDRESSES: You may submit comments, identified by docket number OIG-2015-0001 by one of the following methods:

• Federal eRulemaking Portal: http://www.regulations.gov. Follow the instructions for submitting comments.

• Email: Comments@oig.usda.gov.

• Fax: (202) 690-1528.

• Mail: Christy A. Slamowitz, Counsel to the Inspector General, U.S. Department of Agriculture, 1400 Independence Avenue SW., STOP 2308, Washington, DC 20250-2308.

• Instructions: All submissions received must include the agency name and docket number for this rulemaking. All comments received will be posted without change to http://www.regulations.gov, including any personal information provided.

• Docket: For access to the docket or to read background documents or comments received go to http://www.regulations.gov.

FOR FURTHER INFORMATION CONTACT: For general questions and for privacy issues please contact: Cherry W. Tolliver, Assistant Counsel to the Inspector General, USDA OIG, (202) 720-9110.

SUPPLEMENTARY INFORMATION: The Privacy Act, 5 U.S.C. 552a(e)(4), (11), provides that the public be given a 30-day period in which to comment on new uses or intended uses of information in systems of records. The Office of Management and Budget (OMB), which has oversight responsibilities under the Act, requires a 40-day period in which to conclude its review of the new or amended systems. Therefore, please submit any comments by September 22, 2015. The public, OMB, and the Congress are invited to send written comments.

The full list of OIG's systems of records notices was last published in the Federal Register on pages 61262-61266, 62 FR 61262, et seq. (November 17, 1997). OIG's systems of records was last amended on pages 21389-21391, 70 FR 21389, et seq. (April 26, 2005); on pages 43398-43400, 73 FR 43398, et seq. (July 25, 2008); and on pages 9584-9586, 74 FR 9584, et seq. (March 5, 2009). Because there are a number of changes, this notice also republishes in one location descriptions of all of OIG's systems of records for the convenience of interested parties.

Pursuant to the Privacy Act of 1974 (5 U.S.C. 552a) and OMB Circular No. A-130, USDA OIG has conducted a review of its Privacy Act systems of records notices and has determined that it needs one new system of records entitled Audit Records. USDA OIG has determined that one system of records entitled Training Tracking System, USDA/OIG-6, containing audit employee training records, can be deleted and the records of audit employee training history will be included in USDA/OIG-5 Automated Reporting and General Operations System (ARGOS). Additionally, USDA OIG has determined that six existing routine uses need to be modified or revised, and that new routine uses need to be added to several systems of records. USDA OIG has determined that the release of information for the purposes provided in the new routine uses is a necessary and proper use of the information in the systems of records and is compatible and consistent with the purpose for which the records are collected.

USDA OIG has also determined that its systems of records' locations need to be updated as set forth in the system location of each system of records and in Appendix A. USDA OIG's office locations can also be found on OIG's Web site at www.usda.gov/oig/contact.htm. This notice also updates the titles of responsible officials. USDA OIG is replacing the title of “Assistant Inspector General for Policy Development and Resources Management” with “Counsel to the Inspector General” under the category of Contesting Record Procedures, and is replacing the title of “Director, Information Management Division, Policy Development and Resources Management” with “Counsel to the Inspector General” under the category of Notification Procedures and Record Access Procedures. Elsewhere, the titles “Director, Information Management Division, Policy Development and Resources Management” and “Assistant Inspector General for Policy Development and Resources Management” are replaced with “Assistant Inspector General for Management.”

USDA OIG is also amending the systems of records to make clear that written requests for Notification, Record Access and Contesting Records should be addressed to the Counsel to the Inspector General. Where applicable, the storage, retention, and disposal practices for records in systems of records have also been updated. USDA OIG's records are retained and disposed of, as applicable, in compliance with the General Records Schedule, National Archives and Records Administration (NARA) and USDA OIG's record disposition authority, approved by NARA. USDA OIG's record disposition authority was approved by NARA on October 17, 2001. See Request for Records Disposition Authority, Job No. N1-016-00-3 (October 17, 2001). During our review, it was determined that USDA OIG's record disposition authority approved by NARA on October 17, 2001, did not explicitly mention the records contained in USDA/OIG-2 Informant and Undercover Agent Records. Therefore, USDA OIG will keep those records in USDA/OIG-2, Informant and Undercover Agent Records until a records retention schedule is developed and approved by NARA for those records. USDA OIG also deleted from USDA/OIG-5 (ARGOS) the reference to Social Security numbers under the Retrievability heading as OIG no longer retrieves records using Social Security numbers from this system. Because there are a number of changes, USDA OIG is republishing its systems of records notices in their entirety.

This notice adds a new system of records called USDA/OIG-9, Audit Records, to account for information about individuals that is not included elsewhere in OIG's systems of records regarding OIG audits.

USDA OIG has also determined that its systems of records need to be updated to include a section on disclosures to consumer reporting agencies, a purpose(s) section, and a security classification section.

Revised System of Records—Employee Records—USDA/OIG-1 (Amendment to Notice)

The description of existing system of records USDA/OIG-1 Employee Records is revised to show that OPM/GOVT-8, Confidential Statements of Employment and Financial Interest, has been renamed OGE/GOVT-2, Executive Branch Confidential Financial Disclosure Reports as shown in 55 FR 6327 (February 22, 1990) and 68 FR 3098 (January 22, 2003). A reference to governmentwide system of records OGE/GOVT-1, Executive Branch Personnel Public Financial Disclosure Reports and Other Named-Retrieved Ethics Program Records, is being added to fully reflect the ethics records in OIG's possession.

The retention and disposal paragraph for this system is updated to reflect that records are disposed of in accordance with the various applicable retention periods and disposal methods as outlined by NARA. The following sentence is deleted as it is no longer applicable: “Personal information that the agency deems to be potentially derogatory or embarrassing is shredded when retention period expires.”

Deletion of System of Records Training Tracking System—USDA/OIG-6

USDA OIG is terminating USDA/OIG-6 entitled Training Tracking System for training records of audit employees. The records currently covered by USDA/OIG-6 will be covered by USDA/OIG-5 (ARGOS), and the USDA/OIG-6 system designation will be reserved for future use.

New System of Records—USDA/OIG-9 Audit Records

USDA OIG has undertaken an internal review and has determined that an additional system of records notice is necessary in order to account for information maintained about individuals that is not included elsewhere in USDA OIG's systems of records. The new USDA OIG system of records is entitled USDA/OIG-9 Audit Records. The system is designed to function as a tool to initiate, manage, and retain audits in a centralized environment. Records maintained in this system may be retrieved by OIG personnel in headquarters and the regions. Information is generally retrieved by audit assignment number. However, information can be retrieved by using alphanumeric queries and personal identifiers.

Routine Use 5—Technical Change (Disclosure to Department of Justice or Courts)

USDA OIG proposes revising Routine Use 5 to incorporate the clarifications on such disclosures prescribed by the Office of Management and Budget (OMB) in its supplementary guidelines dated May 24, 1985, for implementing the Privacy Act. The current language of Routine Use No. 5 is as follows:

(5) A record from the system of records may be disclosed to the Department of Justice in the course of litigation when the use of such records by the Department of Justice is deemed relevant and necessary to the litigation and may be disclosed in a proceeding before a court, adjudicative body, or administrative tribunal, or in the course of civil discovery, litigation, or settlement negotiations, when a party to a legal action or an entity or individual having an interest in the litigation includes any of the following:

(a) The OIG or any component thereof;

(b) Any employee of the OIG in his or her official capacity;

(c) Any employee of the OIG in his or her individual capacity where the Department of Justice has agreed to represent the employee; or

(d) The United States, where the OIG determines that litigation is likely to affect USDA or any of its components.

The revised routine use will read as follows:

(5) A record from the system of records may be disclosed to the U.S. Department of Justice or in a proceeding before a court, administrative tribunal, or adjudicative body, when:

(a) OIG, or any component thereof;

(b) Any employee of OIG in his or her official capacity;

(c) Any employee of OIG in his or her individual capacity where the Department of Justice has agreed to represent the employee; or

(d) The United States, where the OIG determines that litigation is likely to affect USDA or any of its components, is a party to the litigation or has an interest in such litigation, and OIG determines that use of such records is relevant and necessary to the litigation; provided, however, that in each case, OIG determines that disclosure of the records is a use of the information contained in the records that is compatible with the purpose for which the records were collected.

The revised routine use, like the original version of the routine use, will still allow for the disclosure of information in the course of civil discovery, litigation, or settlement negotiations. The revision is simply to incorporate a clarification by OMB.

Routine Use No. 10 (Disclosure in Response to Federal Subpoenas)—Technical Change

USDA OIG proposes revising Routine Use 10 to more clearly recognize the role of the cognizant agency head and the relevant law enforcement purposes related to subpoenas issued by Federal agencies in compliance with 5 U.S.C. 552a(b)(7). The current language of Routine Use 10 is as follows:

A record from the system of records may be disclosed in response to a subpoena issued by a Federal agency having the power to subpoena records of other Federal agencies, if the OIG determines that: (a) The records are both relevant and necessary to the proceeding, and (b) such release is compatible with the purpose for which the records were collected.

The revised routine use will then read as follows:

(10) A record from the system of records may be disclosed in response to a subpoena issued by a Federal agency having the power to subpoena records of other Federal agencies, provided the subpoena is channeled through the head of the agency, if the OIG determines that: (a) The head of the agency signed the subpoena; (b) the subpoena specifies the information sought and the law enforcement purpose served; (c) the records are both relevant and necessary to the proceeding; and (d) such release is compatible with the purpose for which the records were collected.

The revised routine use, like the original version of the routine use, will still allow for the disclosure of information in response to a subpoena issued by a Federal agency having the power to subpoena records of other Federal agencies in order to cooperate with Federal agencies to the extent necessary for them to carry out their legal responsibilities.

Routine Use No. 13 (Disclosure to News Media and Public)—Technical Change

USDA OIG proposes revising existing Routine Use No. 13 by deleting one half of one sentence of the existing routine use to avoid referring to another agency's regulations, to add language regarding personal privacy, and to make this routine use consistent with respect to all applicable USDA OIG systems of records. The current language of Routine Use No. 13 for USDA/OIG-1, USDA/OIG-2, USDA/OIG-5, and USDA/OIG-6 is as follows:

(13) Relevant information from a system of records may be disclosed to the news media and general public where there exists a legitimate public interest, e.g., to assist in the location of fugitives, to provide notification of arrests, where necessary for protection from imminent threat of life or property, or in accordance with guidelines set out by the Department of Justice in 28 CFR 50.2.

The proposed revision deletes the last part of the sentence, to end the sentence after the word “property.” Thus, the end of the sentence that refers to the Department of Justice guidelines and its regulatory citation is deleted and a reference to personal privacy is added. The revised routine use will then read as follows:

(13) Relevant information from a system of records may be disclosed to the news media and general public where there exists a legitimate public interest, e.g., to assist in the location of fugitives, to provide notification of arrests, or where necessary for protection from imminent threat of life or property except to the extent OIG determines that release of the specific information in the context of a particular case would constitute an unwarranted invasion of personal privacy.

Part of this modification (deleting the reference to the Department of Justice guidelines and its regulatory citation) to Routine Use No. 13 was made for USDA/OIG-3 and USDA/OIG-4 in 2005, 70 FR 21389 (April 26, 2005). We are revising the routine use as to USDA/OIG-1, 2, and 5 to make it consistent with the routine use applicable to these other USDA OIG systems of records and updating the routine use for USDA/OIG-3 and USDA/OIG-4 as well to address personal privacy concerns.

Routine Uses Nos. 14 and 15—Technical Change (Disclosures to CIGIE)

USDA OIG proposes revising two existing routine uses by allowing disclosure to the President's Council on Integrity and Efficiency's successor entity, the Council of the Inspectors General on Integrity and Efficiency (CIGIE), or to any successor entity.

The current language of Routine Uses numbered 14 and 15 for USDA/OIG-3, USDA/OIG-4, and USDA/OIG-8 (Office of Audit's Research Aggregated Data Analysis Repository (RADAR)) is as follows:

(14) A record may be disclosed to any official charged with the responsibility to conduct qualitative assessment reviews or peer reviews of internal safeguards and management procedures employed in investigative operations. This disclosure category includes members of the President's Council on Integrity and Efficiency and officials and administrative staff within their investigative chain of command, as well as authorized officials of the Department of Justice and the Federal Bureau of Investigation.

(15) In the event that these records respond to an audit, investigation, or review, which is conducted pursuant to an authorizing law, rule, or regulation, and in particular those conducted at the request of the President's Council on Integrity and Efficiency (PCIE) pursuant to Executive Order 12993, the records may be disclosed to the PCIE and other Federal agencies, as necessary.

The revised routine uses will then read as follows:

(14) A record may be disclosed to any official charged with the responsibility to conduct qualitative assessment reviews or peer reviews of internal safeguards and management procedures employed in investigative, audit, and inspection and evaluation operations. This disclosure category includes members of the Council of the Inspectors General on Integrity and Efficiency (CIGIE) or any successor entity and officials and administrative staff within their chain of command, as well as authorized officials of the Department of Justice and the Federal Bureau of Investigation.

(15) In the event that these records respond to an audit, investigation, or review, which is conducted pursuant to an authorizing law, rule, or regulation, and in particular those conducted at the request of CIGIE, the records may be disclosed to the CIGIE or any successor entity and other Federal agencies, as necessary.

Renumber Routine Use and Technical Change

USDA OIG proposes to renumber Routine Use 1 for USDA/OIG-6 (Training Tracking System) (published at 62 FR 61262, November 17, 1997) to Routine Use 17 since USDA/OIG-6 (Training Tracking System) currently has two routine uses which are numbered 1, and USDA OIG is deleting USDA/OIG-6. USDA OIG is not amending current Routine Use 1 substantively, but is renumbering it as Routine Use 17 in the amended systems of records notice.

USDA OIG proposes revising the existing routine use, renumbered as Routine Use No. 17, to change the name General Accounting Office because the name of that office has changed to the U.S. Government Accountability Office.

The current language of Routine Use No. 1 for USDA/OIG-6 is as follows:

A record from the system of records may be disclosed as a routine use to a Federal agency or professional organization to document continuing education credits required by the Government Auditing Standards, U.S. General Accounting Office Standards of Audit of Governmental Organizations, Programs, Activities, and Functions. The record must be relevant to the determination of professional proficiency and compliance with the general qualification standard for government auditing, and retention of an employee or other personnel action.

The revised routine use will then read as follows:

(17) A record from the system of records may be disclosed as a routine use to a Federal agency or professional organization to document continuing professional education required by the Government Auditing Standards published by the U.S. Government Accountability Office. The record must be relevant to the determination of competency and compliance with the general qualification standard for government auditing, and retention of an employee or other personnel action.

New Routine Uses

USDA OIG proposes to add four new routine uses.

The first added routine use (proposed 18) is proposed to more readily and explicitly inform victims and complainants about the status, progress, and/or results of an investigation or case.

The second added routine use (proposed 19) is proposed to allow USDA OIG to share information with former employees for the purposes of responding to certain official inquiries and for facilitating communications that may be necessary for personnel-related or other official purposes.

The third added routine use (proposed 20) is proposed to allow the disclosure of information to CIGIE and its members for the preparation of reports to the President and Congress on the activities of the Inspectors General.

The fourth added routine use (proposed 21) is proposed to allow the disclosure of information to the NARA, Office of Government Information Services (OGIS), for all the purposes set forth in 5 U.S.C. 552(h)(2)(A) and (B) and (h)(3).

The text of the proposed routine use 18 is applicable to systems of records USDA/OIG-2, USDA/OIG-3, USDA/OIG-4, and USDA/OIG-5, and will read as follows:

18. To complainants and/or victims to the extent necessary to provide such persons with information and explanations concerning the progress and/or results of the investigation or case arising from the matters of which they complained and/or of which they were a victim.

The text of the proposed routine use 19 is applicable to systems of records USDA/OIG-1, USDA/OIG-2, USDA/OIG-3, USDA/OIG-4, USDA/OIG-5, USDA/OIG-7, USDA/OIG-8, and the new USDA/OIG-9, and will read as follows:

19. To a former employee of OIG for purposes of: Responding to an official inquiry by a Federal, State, or local government entity or professional licensing authority, in accordance with applicable Department regulations; or facilitating communications with a former employee that may be necessary for personnel-related or other official purposes where OIG requires information and/or consultation assistance from the former employee regarding a matter within that person's former area of official responsibility.

The text of the proposed routine use 20 is applicable to systems of records USDA/OIG-3, USDA/OIG-4, USDA/OIG-8, and USDA/OIG-9, and will read as follows:

20. A record may be disclosed to members and employees of CIGIE, or any successor entity, for the preparation of reports to the President and Congress on the activities of the Inspectors General.

The text of the proposed routine use 21 is applicable to systems of records USDA/OIG-1, USDA/OIG-2, USDA/OIG-3, USDA/OIG-4, USDA/OIG-5, USDA/OIG-7, USDA/OIG-8, and USDA/OIG-9, and will read as follows:

21. A record may be disclosed to the National Archives and Records Administration, Office of Government Information Services (OGIS), to the extent necessary to fulfill its responsibilities in 5 U.S.C. 552(h), to review administrative agency policies, procedures, and compliance with the Freedom of Information Act (FOIA), and to facilitate OGIS' offering of mediation services to resolve disputes between persons making FOIA requests and administrative agencies.

New Section on “Disclosure to Consumer Reporting Agencies”

USDA OIG has determined that a new section on “Disclosure to Consumer Reporting Agencies” needs to be added to allow disclosures of records in order to improve debt collection by the Government. The Debt Collection Act, codified at 5 U.S.C. 552a(b)(12), requires agencies to publish a notice identifying each system of records from which information may be disclosed to consumer credit reporting agencies (i.e., consumer credit bureaus). The Office of Management and Budget has indicated that this notice should take the form of an insert to existing systems of records. See OMB, Privacy Act of 1974; Guidelines on the Relationship of the Debt Collection Act of 1982 to the Privacy Act of 1974, 48 FR 15556, 15558 (April 11, 1983). USDA OIG has thus incorporated a statement regarding consumer credit reporting into its systems of records.

Adding a “Purpose(s)” Section

As a result of our review, USDA OIG found that all of our Privacy Act systems of records notices should be revised by adding a “purpose(s)” statement to conform the notices to the format required by the Office of the Federal Register. A purpose(s) statement was added to each system of records.

In accordance with 5 U.S.C. 552a(r), USDA OIG has provided a report to the Office of Management and Budget and to Congress on the proposed systems of records.

Dated: August 7, 2015.
Thomas J. Vilsack,
Secretary, Department of Agriculture.

Accordingly, we are republishing the systems of records notices in their entirety, as amended, as follows:

Routine Uses

The following 21 routine uses are applicable as noted below to USDA OIG's systems of records.

1. A record from the system of records which indicates either by itself or in combination with other information, a violation or potential violation of a contract or law, whether civil, criminal, or regulatory, or which otherwise reflects on the qualifications or fitness of a licensed (or seeking to be licensed) individual, may be disclosed to a Federal, State, local, foreign, or self-regulatory agency (including but not limited to organizations such as professional associations or licensing boards), or other public authority that investigates or prosecutes or assists in such investigation, prosecution, enforcement, implementation, or issuance of the statute, rule, regulation, order, or license.

2. A record from the system of records may be disclosed to a Federal, State, local, or foreign agency, other public authority, consumer reporting agency, or professional organization maintaining civil, criminal, or other relevant enforcement or other pertinent records, such as current licenses, in order to obtain information relevant to an OIG decision concerning employee retention or other personnel action, issuance of a security clearance, letting of a contract or other procurement action, issuance of a benefit, establishment of a claim, collection of a delinquent debt, or initiation of an administrative, civil, or criminal action.

3. A record from the system of records may be disclosed to a Federal, State, local, foreign, or self-regulatory agency (including but not limited to organizations such as professional associations or licensing boards), or other public authority, to the extent the information is relevant and necessary to the requestor's hiring or retention of an individual or any other personnel action; issuance or revocation of a security clearance, license, grant, or other benefit; establishment of a claim; letting of a contract; reporting of an investigation of an individual; or for purposes of a suspension or debarment action, or the initiation of administrative, civil, or criminal action.

4. A record from the system of records may be disclosed to any source—private or public—to the extent necessary to secure from such source information relevant to a legitimate OIG investigation, audit, or other inquiry.

5. A record from the system of records may be disclosed to the U.S. Department of Justice or in a proceeding before a court, administrative tribunal, or adjudicative body, when:

(a) OIG, or any component thereof;

(b) Any employee of OIG in his or her official capacity;

(c) Any employee of OIG in his or her individual capacity where the Department of Justice has agreed to represent the employee; or

(d) The United States, where the OIG determines that litigation is likely to affect USDA or any of its components,

is a party to the litigation or has an interest in such litigation, and OIG determines that use of such records is relevant and necessary to the litigation, provided, however, that in each case, OIG determines that disclosure of the records is a use of the information contained in the records that is compatible with the purpose for which the records were collected.

6. A record from the system of records may be disclosed to a Member of Congress from the record of an individual in response to an inquiry from the Member of Congress made at the request of that individual. In such cases however, the Member's right to a record is no greater than that of the individual.

7. A record from the system of records may be disclosed to the Department of Justice for the purpose of obtaining its advice on an OIG audit, investigation, or other inquiry, including Freedom of Information or Privacy Act matters.

8. A record from the system of records may be disclosed to the Office of Management and Budget for the purpose of obtaining its advice regarding OIG obligations under the Privacy Act or in connection with the review of private relief legislation.

9. A record from the system of records may be disclosed to a private firm with which OIG contemplates it will contract or with which it has contracted for the purpose of performing any functions or analyses that facilitate or are relevant to an OIG investigation, audit, inspection, or other inquiry. Such contractor or private firm shall be required to maintain Privacy Act safeguards with respect to such information.

10. A record from the system of records may be disclosed in response to a subpoena issued by a Federal agency having the power to subpoena records of other Federal agencies, provided the subpoena is channeled through the head of the agency, if the OIG determines that: (a) The head of the agency signs the subpoena; (b) the subpoena specifies the information sought and the law enforcement purpose served; (c) the records are both relevant and necessary to the proceeding; and (d) such release is compatible with the purpose for which the records were collected.

11. A record from the system of records may be disclosed to a grand jury agent pursuant either to a Federal or State grand jury subpoena, or to a prosecution request that such record be released for the purpose of its introduction to a grand jury, provided that the grand jury channels its request through the cognizant U.S. Attorney, that the U.S. Attorney has been delegated the authority to make such requests by the Attorney General, and that the U.S. Attorney actually signs the letter specifying both the information sought and the law enforcement purpose served. In the case of a State grand jury subpoena, the State equivalent of the U.S. Attorney and Attorney General shall be substituted.

12. A record from the system of records may be disclosed, as a routine use, to a Federal, State, local, or foreign agency, or other public authority, for use in computer matching programs to prevent and detect fraud and abuse in benefit programs administered by any agency, to support civil and criminal law enforcement activities of any agency and its components, and to collect debts and overpayments owed to any agency and its components.

13. Relevant information from a system of records may be disclosed to the news media and general public where there exists a legitimate public interest, e.g., to assist in the location of fugitives, to provide notification of arrests, or where necessary for protection from imminent threat of life or property except to the extent OIG determines that release of the specific information in the context of a particular case would constitute an unwarranted invasion of personal privacy.

14. A record may be disclosed to any official charged with the responsibility to conduct qualitative assessment reviews or peer reviews of internal safeguards and management procedures employed in investigative, audit, and inspection and evaluation operations. This disclosure category includes members of the Council of the Inspectors General on Integrity and Efficiency (CIGIE) or any successor entity and officials and administrative staff within their chain of command, as well as authorized officials of the Department of Justice and the Federal Bureau of Investigation.

15. In the event that these records respond to an audit, investigation, or review, which is conducted pursuant to an authorizing law, rule, or regulation, and in particular those conducted at the request of CIGIE, the records may be disclosed to the CIGIE or any successor entity and other Federal agencies, as necessary.

16. A record from the system of records may be disclosed to appropriate agencies, entities, and persons when: (a) OIG suspects or has confirmed that the security or confidentiality of information in the system of records has been compromised; (b) USDA has determined that as a result of the suspected or confirmed compromise there is a risk of harm to economic or property interests, identity theft or fraud, or harm to the security or integrity of this system or other systems or programs (whether maintained by USDA or another agency or entity) that rely upon the compromised information; and (c) the disclosure made to such agencies, entities, and persons is reasonably necessary to assist in connection with USDA's efforts to respond to the suspected or confirmed compromise and prevent, minimize, or remedy such harm.

17. A record from the system of records may be disclosed as a routine use to a Federal agency or professional organization to document continuing professional education required by the Government Auditing Standards published by the U.S. Government Accountability Office. The record must be relevant to the determination of competency and compliance with the general qualification standard for government auditing, and retention of an employee or other personnel action.

18. A record from the system of records may be disclosed to complainants and/or victims to the extent necessary to provide such persons with information and explanations concerning the progress and/or results of the investigation or case arising from the matters of which they complained and/or of which they were a victim.

19. A record from the system of records may be disclosed to a former employee of OIG for purposes of: Responding to an official inquiry by a Federal, State, or local government entity or professional licensing authority, in accordance with applicable Department regulations; or facilitating communications with a former employee that may be necessary for personnel-related or other official purposes where OIG requires information and/or consultation assistance from the former employee regarding a matter within that person's former area of official responsibility.

20. A record may be disclosed to members and employees of the CIGIE, or any successor entity, for the preparation of reports to the President and Congress on the activities of the Inspectors General.

21. A record may be disclosed to the National Archives and Records Administration, Office of Government Information Services (OGIS), to the extent necessary to fulfill its responsibilities in 5 U.S.C. 552(h), to review administrative agency policies, procedures, and compliance with the Freedom of Information Act (FOIA), and to facilitate OGIS' offering of mediation services to resolve disputes between persons making FOIA requests and administrative agencies.

SYSTEM OF RECORDS

USDA/OIG-1

SYSTEM NAME:

Employee Records, USDA/OIG.

SECURITY CLASSIFICATION:

None.

SYSTEM LOCATION:

In the headquarters offices of the U.S. Department of Agriculture (USDA), Office of Inspector General (OIG), 1400 Independence Avenue SW., Washington, DC 20250; the Office of Compliance and Integrity, 5601 Sunnyside Avenue, Suite 2-2230, Beltsville, Maryland 20705-5300; and in the OIG regional offices and suboffices, listed in Appendix A.

CATEGORIES OF INDIVIDUALS COVERED BY THE SYSTEM:

OIG temporary and permanent employees, former employees of OIG, and applicants for employment.

CATEGORIES OF RECORDS IN THE SYSTEM:

These records show or relate to employment, personnel management, and work-related information, including position, classification, title, grade, pay rate, pay, temporary and permanent addresses and telephone numbers for home and work, copies of security clearance forms, program and performance evaluations, promotions, retirement, disciplinary actions, appeals, incentive programs, unemployment compensation, leave, complaints and grievances, health benefits, equal employment opportunity, automation of personnel data, travel information, accident reports and related information, activity reports, participation in savings and contribution programs, availability for employment, assignment, or for transfer, qualifications (for law enforcement employees this includes Attorney General designations, training certificates, physical fitness data, and medical officer's certification excluding personal medical data), awards, hours worked, issuance of credentials, passports and other identification, assignment and accountability of property and other things of value, parking space assignments, training and development, special assignments, and exit interviews.

Other employee records are covered by other systems as follows: For Official Personnel Folder (OPF) data refer to USDA/OP-1 Personnel and Payroll System for USDA Employees; for medical records, including SF-78, Certificate of Medical Examination, and drug testing records, refer to OPM/GOVT-10 Employee Medical File System; for pre-employment inquiries refer to USDA/OIG-3, Investigative Files and Automated Investigative Indices; for executive branch personnel financial disclosure statements and other ethics program records refer to OGE/GOVT-1, Executive Branch Personnel Public Financial Disclosure Reports and Other Named-Retrieved Ethics Program Records; for annual financial disclosure statements refer to OGE/GOVT-2, Executive Branch Confidential Financial Disclosure Reports.

AUTHORITY FOR MAINTENANCE OF THE SYSTEM:

IG Act of 1978, 5 U.S.C. app. 3; 5 U.S.C. 301; 7 U.S.C. 2270.

PURPOSE(S):

This system consists of records compiled for personnel, payroll, and time-reporting purposes. In addition, this system contains all records created and/or maintained about employees as required by the Office of Personnel Management (OPM) as well as documents relating to personnel matters and determinations. Retirement, life, and health insurance benefit records are collected and maintained in order to administer the Federal Employees Retirement System, Civil Service Retirement System, Federal Employees' Group Life Insurance Plan, and the Federal Employees Health Benefit Program.

ROUTINE USES OF RECORDS MAINTAINED IN THE SYSTEM, INCLUDING CATEGORIES OF USERS AND THE PURPOSES OF SUCH USES:

Routine Uses 1 through 13, 16, 19, and 21 apply.

DISCLOSURE TO CONSUMER REPORTING AGENCIES:

Disclosures pursuant to 5 U.S.C. 552a(b)(12): Disclosures may be made from this system to “consumer reporting agencies” as defined in the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

Storage:

The system consists of computerized and paper records.

Retrievability:

The records are retrieved by name of the individual employee and by Social Security number.

Safeguards:

Computer files are password protected and other records are kept in limited-access areas during duty hours and in locked offices during nonduty hours.

Retention and Disposal:

The records are retained and disposed of in compliance with the General Records Schedule, NARA. Retention periods and disposal methods vary by record categories as set forth in NARA General Records Schedules 1 (Civilian Personnel Records) and 2 (Payrolling and Pay Administration Records).

SYSTEM MANAGER(S) AND ADDRESS(ES):

Assistant Inspector General for Management, Office of Inspector General, U.S. Department of Agriculture, 1400 Independence Avenue SW., Washington, DC 20250.

NOTIFICATION PROCEDURE:

Any individual may request information regarding this system of records, or information as to whether the system contains records pertaining to him/her, from the Counsel to the Inspector General, Office of Inspector General, U.S. Department of Agriculture, 1400 Independence Avenue SW., Stop 2308, Washington, DC 20250-2308.

RECORD ACCESS PROCEDURES:

An individual may request access to a record in this system which pertains to him/her by submitting a written request to the Counsel to the Inspector General, Office of Inspector General, U.S. Department of Agriculture, 1400 Independence Avenue SW., Stop 2308, Washington, DC 20250-2308.

CONTESTING RECORD PROCEDURES:

An individual may contest information in this system which pertains to him/her by submitting a written request to the Counsel to the Inspector General, Office of Inspector General, U.S. Department of Agriculture, 1400 Independence Avenue SW., Stop 2308, Washington, DC 20250-2308.

RECORD SOURCE CATEGORIES:

The primary information is furnished by the individual employee. Additional information is provided by supervisors, coworkers, references, and others.

EXEMPTIONS CLAIMED FOR THE SYSTEM:

None.

SYSTEM OF RECORDS

USDA/OIG-2

SYSTEM NAME:

Informant and Undercover Agent Records, USDA/OIG.

SECURITY CLASSIFICATION:

Sensitive but Unclassified and/or Controlled Unclassified Information

SYSTEM LOCATION:

In the OIG headquarters office at 1400 Independence Avenue SW., Washington, DC 20250, and in the OIG regional offices and Investigations suboffices listed in Appendix A.

CATEGORIES OF INDIVIDUALS COVERED BY THE SYSTEM:

Confidential informants, investigative operatives, and undercover OIG special agents and other law enforcement personnel and others.

CATEGORIES OF RECORDS IN THE SYSTEM:

Information including names, occupations, criminal histories, and other information about confidential informants and investigative operatives, together with allegations against them, and the types of information previously furnished by or to be expected from them. Types, dates of issuance and destruction, and details of undercover identification documents used by OIG special agents and other law enforcement personnel for undercover activities.

AUTHORITY FOR MAINTENANCE OF THE SYSTEM:

IG Act of 1978, 5 U.S.C. app. 3; 5 U.S.C. 301; 7 U.S.C. 2270.

PURPOSE(S):

To track the identities of, and related information regarding, confidential informants, investigative operatives, and undercover OIG special agents and other law enforcement personnel.

ROUTINE USES OF RECORDS MAINTAINED IN THE SYSTEM, INCLUDING CATEGORIES OF USERS AND THE PURPOSES OF SUCH USES:

Routine Uses 1 through 13, 16, 18, 19, and 21 apply.

DISCLOSURE TO CONSUMER REPORTING AGENCIES:

Disclosures pursuant to 5 U.S.C. 552a(b)(12): Disclosures may be made from this system to “consumer reporting agencies” as defined in the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

Storage:

The system consists of computerized and paper records.

Retrievability:

The records are retrieved by name of confidential informant, investigative operative, or special agent.

Safeguards:

Computer files are password protected and other records are kept in limited-access areas during duty hours and in locked offices during nonduty hours.

Retention and disposal:

The records contained in this system are currently unscheduled. A record retention schedule will be developed and submitted to NARA for approval. No records will be destroyed until a NARA approved record retention schedule is in place.

SYSTEM MANAGER(S) AND ADDRESS(ES):

Assistant Inspector General for Investigations, Office of Inspector General, U.S. Department of Agriculture, 1400 Independence Avenue SW., Washington, DC 20250.

NOTIFICATION PROCEDURE:

Any individual may request information regarding this system of records, or information as to whether the system contains records pertaining to him/her, from the Counsel to the Inspector General, Office of Inspector General, U.S. Department of Agriculture, 1400 Independence Avenue SW., Stop 2308, Washington, DC 20250-2308.

RECORD ACCESS PROCEDURES:

An individual may request access to a record in this system which pertains to him/her by submitting a written request to the Counsel to the Inspector General, Office of Inspector General, U.S. Department of Agriculture, 1400 Independence Avenue SW., Stop 2308, Washington, DC 20250-2308.

CONTESTING RECORD PROCEDURES:

An individual may contest information in this system which pertains to him/her by submitting a written request to the Counsel to the Inspector General, Office of Inspector General, U.S. Department of Agriculture, 1400 Independence Avenue SW., Stop 2308, Washington, DC 20250-2308.

RECORD SOURCE CATEGORIES:

This system contains materials for which sources need not be reported.

EXEMPTIONS CLAIMED FOR THE SYSTEM:

Pursuant to 5 U.S.C. 552a(j)(2), this system of records is exempted from all provisions of the Privacy Act of 1974, 5 U.S.C. 552a, as amended, except subsections (b), (c)(1) and (2), (e)(4)(A) through (F), (e)(6), (7), (9), (10), and (11), and (i). Pursuant to 5 U.S.C. 552a(k)(2) and (5), this system is exempted from the following provisions of the Privacy Act of 1974, 5 U.S.C. 552a: Subsections (c)(3), (d), (e)(1), (e)(4)(G), (H), and (I), and (f).

SYSTEM OF RECORDS:

USDA/OIG-3

SYSTEM NAME:

Investigative Files and Automated Investigative Indices System, USDA/OIG.

SECURITY CLASSIFICATION:

Sensitive but Unclassified and/or Controlled Unclassified Information

SYSTEM LOCATION:

Physical files are kept in the OIG headquarters office at 1400 Independence Avenue SW., Washington, DC 20250; the Office of Compliance and Integrity, 5601 Sunnyside Avenue, Suite 2-2230, Beltsville, Maryland 20705-5300; and in the OIG regional offices and Investigations suboffices listed in Appendix A. The OIG regional offices and Investigations suboffices maintain paper files containing the report of investigation and the workpapers for each case investigated by that office. The headquarters files contain a copy of every investigative report, but do not contain workpapers and may not contain copies of all correspondence. Older investigative files may be stored in Federal Records Centers or on microfiche, microfilm, or electronic image filing systems. Therefore, delays in retrieving this material can be expected. Selected portions of records have been computerized—see section 1 of “Categories of records” below. These records, used as a research tool, are accessible by computer terminals located in each OIG office. These records are maintained on a computer at 1400 Independence Avenue SW., Washington, DC 20250.

CATEGORIES OF INDIVIDUALS COVERED BY THE SYSTEM:

The individual names in the OIG index fall into one or more of the following categories:

1. Subjects. These are individuals against whom allegations of wrongdoing have been made. In some instances, these individuals have been the subjects of investigations conducted by OIG to establish whether allegations were true. In other instances, the allegations were deemed too frivolous or indefinite to warrant inquiry.

2. Principals. These are individuals who are not named subjects of investigative inquiries, but may be responsible for potential violations. For example, the responsible officers of a firm alleged to have violated laws or regulations might be individually listed in the OIG index.

3. Complainants. These are individuals, who have not requested anonymity or confidentiality regarding their identity, who allege wrongdoing, mismanagement, or unfair treatment by USDA employees and/or relating to USDA programs.

4. Others. These are all other individuals closely connected with a matter of investigative interest.

CATEGORIES OF RECORDS IN THE SYSTEM:

Records in the OIG Investigative Files and Automated Investigative Indices System consist of:

1. Computerized records retrieved by case number or alphabetically by the names of individuals, organizations, and firms. A separate record for each contains, if applicable, identification of the OIG file or files which contain information on that subject and if such information was available when the record was created or modified; the individual's name, address, sex, race, date and place of birth, relationship to the investigation, FBI or State criminal identification number, and Social Security number;

2. Files containing sheets of paper or microfiche of such sheets from investigative and other reports, correspondence, and informal notes and notations concerning (a) one investigative matter or (b) a number of incidents of the same sort of alleged violation or irregularity; and

3. Where an investigation is being or will be conducted, but has not been completed, various case management records, investigator's notes, statements of witnesses, and copies of records. These are contained on cards and sheets of paper located in an OIG office or in the possession of the OIG investigator. Certain management records are retained after the investigative report is released as a means of following action taken on the basis of the OIG investigative report.

AUTHORITY FOR MAINTENANCE OF THE SYSTEM:

IG Act of 1978, 5 U.S.C. app. 3; 5 U.S.C. 301; 7 U.S.C. 2270.

PURPOSE(S):

The records maintained in the system are used by the OIG in furtherance of the responsibilities of the Inspector General, pursuant to the Inspector General Act of 1978, as amended, to conduct and supervise investigations relating to programs and operations of the USDA; to promote economy, efficiency, and effectiveness in the administration of such programs and operations; and to prevent and detect fraud and abuse in such programs and operations.

ROUTINE USES OF RECORDS MAINTAINED IN THE SYSTEM, INCLUDING CATEGORIES OF USERS AND THE PURPOSES OF SUCH USES:

Routine Uses 1 through 16, 18 through 21 apply.

DISCLOSURE TO CONSUMER REPORTING AGENCIES:

Disclosures pursuant to 5 U.S.C. 552a(b)(12): Disclosures may be made from this system to “consumer reporting agencies” as defined in the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

Storage:

The system consists of computerized and paper records.

Retrievability:

Computerized records are retrieved alphabetically or by using the case number, with each record identifying one or more OIG investigative case files or administrative files arranged numerically by file number.

Safeguards:

These records are kept in limited-access areas during duty hours, in locked offices during nonduty hours, or in the possession of the investigator. Computer files are password protected.

Retention and disposal:

The records are retained and disposed of in compliance with OIG's record disposition authority, approved by NARA.

SYSTEM MANAGER(S) AND ADDRESS(ES):

Assistant Inspector General for Investigations, Office of Inspector General, U.S. Department of Agriculture, 1400 Independence Avenue SW., Washington, DC 20250; and the Director, Office of Compliance and Integrity, 5601 Sunnyside Avenue, Suite 2-2230, Beltsville, Maryland 20705-5300.

NOTIFICATION PROCEDURE:

Inquiries and requests should be addressed to the Counsel to the Inspector General, Office of Inspector General, U.S. Department of Agriculture, 1400 Independence Avenue SW., Stop 2308, Washington, DC 20250-2308.

RECORD ACCESS PROCEDURES:

An individual may request access to a record in this system which pertains to him/her by submitting a written request to the Counsel to the Inspector General, Office of Inspector General, U.S. Department of Agriculture, 1400 Independence Avenue SW., Stop 2308, Washington, DC 20250-2308.

CONTESTING RECORD PROCEDURES:

An individual may contest information in this system which pertains to him/her by submitting a written request to the Counsel to the Inspector General, Office of Inspector General, U.S. Department of Agriculture, 1400 Independence Avenue SW., Stop 2308, Washington, DC 20250-2308.

RECORD SOURCE CATEGORIES:

This system contains materials for which sources need not be reported.

EXEMPTIONS CLAIMED FOR THE SYSTEM:

Pursuant to 5 U.S.C. 552a(j)(2), this system of records is exempted from all provisions of the Privacy Act of 1974, 5 U.S.C. 552a, as amended, except subsections (b), (c)(1) and (2), (e)(4)(A) through (F), (e)(6), (7), (9), (10), and (11), and (i). Pursuant to 5 U.S.C. 552a(k)(2) and (5), this system is exempted from the following provisions of the Privacy Act of 1974, 5 U.S.C. 552a: Subsections (c)(3), (d), (e)(1), (e)(4)(G), (H), and (I), and (f).

SYSTEM OF RECORDS:

USDA/OIG-4

SYSTEM NAME:

OIG Hotline Complaint Records, USDA/OIG.

SECURITY CLASSIFICATION:

Sensitive but Unclassified and/or Controlled Unclassified Information

SYSTEM LOCATION:

In the OIG headquarters office at 1400 Independence Avenue SW., Washington, DC 20250.

CATEGORIES OF INDIVIDUALS COVERED BY THE SYSTEM:

1. Complainants are persons who report or complain of possible criminal, civil, or administrative violations of law, rule, regulation, policy, or procedure, or fraud, waste, abuse, mismanagement, gross waste of funds, or abuse of authority in USDA programs or operations, or specific dangers to public health or safety, misuse of government property, personnel misconduct, discrimination, or other irregularities affecting USDA.

2. Subjects are persons against whom such complaints are made.

CATEGORIES OF RECORDS IN THE SYSTEM:

1. Identities of complainants, if known, and subjects.

2. Details of each allegation.

3. OIG case number and control number(s) used by other agencies for tracking each complaint.

4. Responses from agencies to which complaints are referred for inquiry.

5. Summaries of substantiated information and results of agency inquiry into the complaint.

AUTHORITY FOR MAINTENANCE OF THE SYSTEM:

IG Act of 1978, 5 U.S.C. app. 3; 5 U.S.C. 301; 7 U.S.C. 2270.

PURPOSE(S):

To record complaints, allegations of wrongdoing, and requests for assistance; to document inquiries; to compile statistical information; to provide prompt, responsive, and accurate information regarding the status of ongoing cases; to provide a record of complaint disposition and to record actions taken and notifications of interested parties and agencies.

ROUTINE USES OF RECORDS MAINTAINED IN THE SYSTEM, INCLUDING CATEGORIES OF USERS AND THE PURPOSE OF EACH SUCH USE:

Routine Uses 1 through 16, 18 through 21 apply.

DISCLOSURE TO CONSUMER REPORTING AGENCIES:

Disclosures pursuant to 5 U.S.C. 552a(b)(12): Disclosures may be made from this system to “consumer reporting agencies” as defined in the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

Storage:

The system consists of computerized and paper records.

Retrievability:

The records are retrieved by name of subject or complainant or by case number.

Safeguards:

Files are kept in a limited access area and are in locked storage when not in use. Access to computerized information is protected by requiring a confidential password.

Retention and Disposal:

The records are retained and disposed of in compliance with OIG's record disposition authority, approved by NARA.

SYSTEM MANAGER(S) AND ADDRESS(ES):

Assistant Inspector General for Investigations, Office of Inspector General, U.S. Department of Agriculture, 1400 Independence Avenue SW., Washington, DC 20250.

NOTIFICATION PROCEDURE:

Any individual may request information regarding this system of records, or information as to whether the system contains records pertaining to him/her, from the Counsel to the Inspector General, Office of Inspector General, U.S. Department of Agriculture, 1400 Independence Avenue SW., Stop 2308, Washington, DC 20250-2308.

RECORD ACCESS PROCEDURES:

An individual may request access to a record in this system which pertains to him/her by submitting a written request to the Counsel to the Inspector General, Office of Inspector General, U.S. Department of Agriculture, 1400 Independence Avenue SW., Stop 2308, Washington, DC 20250-2308.

CONTESTING RECORD PROCEDURES:

An individual may contest information in this system which pertains to him/her by submitting a written request to the Counsel to the Inspector General, Office of Inspector General, U.S. Department of Agriculture, 1400 Independence Avenue SW., Stop 2308, Washington, DC 20250-2308.

RECORD SOURCE CATEGORIES:

Identities of complainants and subjects are provided by individual complainants. Additional information may be provided by individual complainants, subjects, and/or third parties.

EXEMPTIONS CLAIMED FOR THE SYSTEM:

Pursuant to 5 U.S.C. 552a(j)(2), this system of records is exempted from all provisions of the Privacy Act of 1974, 5 U.S.C. 552a, as amended, except subsections (b), (c)(1) and (2), (e)(4)(A) through (F), (e)(6), (7), (9), (10), and (11), and (i). Pursuant to 5 U.S.C. 552a(k)(2) and (5), this system is exempted from the following provisions of the Privacy Act of 1974, 5 U.S.C. 552a: Subsections (c)(3), (d), (e)(1), (e)(4)(G), (H), and (I), and (f).

SYSTEM OF RECORDS:

USDA/OIG-5

SYSTEM NAME:

Automated Reporting and General Operations Systems (ARGOS), USDA/OIG.

SECURITY CLASSIFICATION:

Sensitive but Unclassified and/or Controlled Unclassified Information.

SYSTEM LOCATION:

U.S. Department of Agriculture, National Information Technology Center, 8930 Ward Parkway, Kansas City, Missouri 64114; in the OIG headquarters office at 1400 Independence Avenue SW., Washington, DC 20250; and in OIG Regional Offices/Audit suboffices listed in Appendix A.

CATEGORIES OF INDIVIDUALS COVERED BY THE SYSTEM:

OIG professional employees who participate in either audit or investigative assignments. Subjects of investigations, principals, and others associated with investigations.

CATEGORIES OF RECORDS IN THE SYSTEM:

ARGOS provides OIG management officials with a wide range of information on audit and investigative operations. The system identifies individual assignments of employees and provides information on their use of direct and indirect time, significant dates relating to each assignment, reported dollar deficiencies, recoveries, penalties, investigative prosecutions, convictions, other legal and administrative actions, and subjects of investigation. The system is used to manage audit and investigative assignments and to facilitate reporting of OIG activities to Congress and other Governmental entities. The system contains records of audit employee training history.

AUTHORITY FOR MAINTENANCE OF THE SYSTEM:

IG Act of 1978, 5 U.S.C. app. 3; 5 U.S.C. 301; 7 U.S.C. 2270.

PURPOSE(S):

The records maintained in the system are used by the OIG in furtherance of the responsibilities of the Inspector General, pursuant to the Inspector General Act of 1978, as amended, to conduct and supervise audits and investigations relating to programs and operations of the USDA; to promote economy, efficiency, and effectiveness in the administration of such programs and operations; to prevent and detect fraud and abuse in such programs and operations; and for time management and tracking of audit training.

ROUTINE USES OF RECORDS MAINTAINED IN THE SYSTEM, INCLUDING CATEGORIES OF USERS AND THE PURPOSES OF SUCH:

Routine Uses 1 through 13, 15, 16, 17, and 18 through 21 apply.

DISCLOSURE TO CONSUMER REPORTING AGENCIES:

Disclosures pursuant to 5 U.S.C. 552a(b)(12): Disclosures may be made from this system to “consumer reporting agencies” as defined in the Fair Credit Reporting Act (15 U.S.C. 1681a(f)) or the Federal Claims Collection Act of 1966 (31 U.S.C. 3701(a)(3)).

Policies and Practices for Storing, Retrieving, Accessing, Retaining, and Disposing of Records in the System:

Storage:

The system consists of computerized and paper records.

Retrievability:

Information in the system generally can be retrieved by OIG personnel in headquarters and the regions. Information is generally retrieved by assignment number or geographic location. However, information can be retrieved by any field in the system, including subject name, and employee name.

Safeguards:

Normal computer security is maintained including password protection. Printouts and source documents are kept in limited-access areas during duty hours and in locked offices during nonduty hours.

Retention and Disposal:

The records are retained and disposed of in compliance with the General Records Schedule, NARA and OIG's record disposition authority, approved by NARA.

SYSTEM MANAGER(S) AND ADDRESS(ES):

Audit Subsystem—Assistant Inspector General for Audit, Office of Inspector General, U.S. Department of Agriculture, 1400 Independence Avenue SW., Washington, DC 20250. Investigations Subsystem—Assistant Inspector General for Investigations, Office of Inspector General, U.S. Department of Agriculture, 1400 Independence Avenue SW., Washington, DC 20250.

NOTIFICATION PROCEDURE:

Any individual may request information regarding this system of records, or information as to whether the system contains records pertaining to him/her, from the Counsel to the Inspector General, Office of Inspector General, U.S. Department of Agriculture, 1400 Independence Avenue SW., Stop 2308, Washington, DC 20250-2308.

RECORD ACCESS PROCEDURES:

An individual may request access to a record in this system which pertains to him/her by submitting a written request to the Counsel to the Inspector General, Office of Inspector General, U.S. Department of Agriculture, 1400 Independence Avenue SW., Stop 2308, Washington, DC 20250-2308.

CONTESTING RECORD PROCEDURES:

An individual may contest information in this system which pertains to him/her by submitting a written request to the Counsel to the Inspector General, Office of Inspector General, U.S. Department of Agriculture, 1400 Independence Avenue SW., Stop 2308, Washington, DC 20250-2308.

RECORD SOURCE CATEGORIES:

Information in the system is obtained from OIG employees and from various source documents related to audit and investigative activities, including assignment letters, employee time reports, and case entry sheets.

EXEMPTIONS CLAIMED FOR THE SYSTEM:

Pursuant to 5 U.S.C. 552a(j)(2), the Investigations Subsystem and the Investigation Employee Time System of this system of records is exempted from all provisions of the Privacy Act of 1974, 5 U.S.C. 552a, as amended, except subsections (b), (c)(1) and (2), (e)(4)(A) through (F), (e)(6), (7), (9), (10), and (11), and (i). Pursuant to 5 U.S.C. 552a(k)(2) and (k)(5), the Investigations Subsystem and the Investigation Employee Time System of this system is exempted from the following provisions of the Privacy Act of 1974, 5 U.S.C. 552a: Subsections (c)(3), (d), (e)(1), (e)(4)(G), (H), and (I), and (f).

SYSTEM OF RECORDS:

USDA/OIG-6

SYSTEM NAME:

Reserved for future use.

SYSTEM OF RECORDS:

USDA/OIG-7

SYSTEM NAME:

Freedom of Information Act and Privacy Act Request Records, USDA/OIG.

SECURITY CLASSIFICATION:

None.

SYSTEM LOCATION:

Files are kept in the OIG headquarters office at 1400 Independence Avenue SW., Washington, DC 20250.

CATEGORIES OF INDIVIDUALS COVERED BY THE SYSTEM:

This system contains records of individuals who have made requests under the Freedom of Information Act or the Privacy Act.

CATEGORIES OF RECORDS IN THE SYSTEM:

The request records consist of the incoming request, all correspondence developed during the processing of the request, the final reply, and any incoming requests and responses for FOIA appeals, including any litigation in U.S. District Court, and in some instances copies of requested records and records under administrative appeal.

AUTHORITY FOR MAINTENANCE OF THE SYSTEM:

IG Act of 1978, 5 U.S.C. app. 3; 5 U.S.C. 301; 5 U.S.C. 552, 5 U.S.C. 552a.

PURPOSE(S):

To assist OIG in carrying out its responsibilities under the Freedom of Information Act and the Privacy Act.

ROUTINE USES OF RECORDS MAINTAINED IN THE SYSTEM, INCLUDING CATEGORIES OF USERS AND THE PURPOSES OF SUCH USES:

Routine Uses 7, 16, 19, and 21 apply.

DISCLOSURE TO CONSUMER REPORTING AGENCIES:

Disclosures pursuant to 5 U.S.C. 552a(b)(12): Disclosures may be made from this system to “consumer reporting agencies” as defined in the Fair Credit Reporting Act (15 U.S.C. 1681a(f)) or the Federal Claims Collection Act of 1966 (31 U.S.C. 3701(a)(3)).

POLICIES AND PRACTICES FOR STORING, RETRIEVING, ACCESSING, RETAINING AND DISPOSING OF RECORDS IN THE SYSTEM:

Storage:

The system consists of computerized and paper records.

Retrievability:

The records are retrieved by name or by using a control number that is assigned upon date of receipt.

Safeguards:

Freedom of Information Act and Privacy Act request records are stored in file cabinets in limited-access areas during duty hours and in locked offices during nonduty hours. Computerized records are maintained in a secure, password protected computer system. The computer server is maintained in a secure, access-controlled area within an access-controlled building.

Retention and Disposal:

The records are retained and disposed of in compliance with the General Records Schedule, NARA. Retention periods and disposal methods vary by record categories as set forth in NARA General Records Schedule 14, Information Services Records.

SYSTEM MANAGER(S) AND ADDRESS(ES):

Counsel to the Inspector General, Office of Counsel, Office of Inspector General, U.S. Department of Agriculture, 1400 Independence Avenue SW., Stop 2308, Washington, DC 20250-2308.

NOTIFICATION PROCEDURE:

Any individual may request information regarding this system of records, or information as to whether the system contains records pertaining to him/her, from the Counsel to the Inspector General, Office of Inspector General, U.S. Department of Agriculture, 1400 Independence Avenue SW., Stop 2308, Washington, DC 20250-2308.

RECORD ACCESS PROCEDURES:

An individual may request access to a record in this system which pertains to him/her by submitting a written request to the Counsel to the Inspector General, Office of Inspector General, U.S. Department of Agriculture, 1400 Independence Avenue SW., Stop 2308, Washington, DC 20250-2308.

CONTESTING RECORD PROCEDURES:

An individual may contest information in this system which pertains to him/her by submitting a written request to the Counsel to the Inspector General, Office of Inspector General, U.S. Department of Agriculture, 1400 Independence Avenue SW., Stop 2308, Washington, DC 20250-2308.

RECORD SOURCE CATEGORIES:

Information in this system comes from the individual making the request and from OIG employees processing the request.

EXEMPTIONS CLAIMED FOR THE SYSTEM:

None.

SYSTEM OF RECORDS:

USDA/OIG-8

SYSTEM NAME:

Office of Audit's Research Aggregated Data Analysis Repository (RADAR) System, USDA/OIG.

SECURITY CLASSIFICATION:

None.

SYSTEM LOCATION:

U.S. Department of Agriculture, National Information Technology Center, 8930 Ward Parkway, Kansas City, Missouri 64114.

CATEGORIES OF INDIVIDUALS COVERED BY THE SYSTEM:

Individuals who participate in programs funded, monitored, and administered by USDA; other individuals who are connected with the individuals, organizations, or firms who participate in programs funded, monitored, and administered by USDA, including the names of the subjects of OIG audits and investigations.

CATEGORIES OF RECORDS IN THE SYSTEM:

RADAR houses USDA data in order to detect fraud, waste, and abuse by utilizing software to match, merge, and analyze the data associated with USDA programs and activities, program participants, and other USDA information.

AUTHORITY FOR MAINTENANCE OF THE SYSTEM:

IG Act of 1978, 5 U.S.C. app. 3; 5 U.S.C. 301.

PURPOSE(S):

The records maintained in the system are used by the OIG in furtherance of the responsibilities of the Inspector General, pursuant to the Inspector General Act of 1978, as amended, to conduct and supervise audits relating to programs and operations of the USDA; to promote economy, efficiency, and effectiveness in the administration of such programs and operations; and to prevent and detect fraud and abuse in such programs and operations.

ROUTINE USES OF RECORDS MAINTAINED IN THE SYSTEM, INCLUDING CATEGORIES OF USERS AND THE PURPOSE OF SUCH USES:

Routine Uses 1 through 16, 19, 20, and 21 apply.

DISCLOSURE TO CONSUMER REPORTING AGENCIES:

Disclosures pursuant to 5 U.S.C. 552a(b)(12): Disclosures may be made from this system to “consumer reporting agencies” as defined in the Fair Credit Reporting Act (15 U.S.C. 1681a(f)) or the Federal Claims Collection Act of 1966 (31 U.S.C. 3701(a)(3)).

POLICIES AND PRACTICES FOR STORING, RETRIEVING, ACCESSING, RETAINING AND DISPOSING OF RECORDS IN THE SYSTEM:

Storage:

The RADAR System consists of computerized and paper records.

Retrievability:

The records are retrieved by names, addresses, Social Security numbers, and tax identification numbers of USDA program participants or by case numbers.

Safeguards:

Computerized records are maintained in a secure, password protected computer system. The computer server is maintained in a secure, access-controlled area within an access-controlled building. Paper records are kept in limited access areas during duty hours and in locked offices during non-duty hours.

Retention and Disposal:

The records are retained and disposed of in compliance with OIG's record disposition authority, approved by NARA.

SYSTEM MANAGER(S) AND ADDRESS(ES):

Assistant Inspector General for Audit, Office of Inspector General, U.S. Department of Agriculture, 1400 Independence Avenue SW., Washington, DC 20250.

NOTIFICATION PROCEDURE:

Any individual may request information regarding this system of records, or information as to whether the system contains records pertaining to him/her, from the Counsel to the Inspector General, Office of Inspector General, U.S. Department of Agriculture, 1400 Independence Avenue SW., Stop 2308, Washington, DC 20250-2308.

RECORD ACCESS PROCEDURES:

An individual may request access to a record in this system which pertains to him/her by submitting a written request to the Counsel to the Inspector General, Office of Inspector General, U.S. Department of Agriculture, 1400 Independence Avenue SW., Stop 2308, Washington, DC 20250-2308.

CONTESTING RECORD PROCEDURES:

An individual may contest information in this system which pertains to him/her by submitting a written request to the Counsel to the Inspector General, Office of Inspector General, U.S. Department of Agriculture, 1400 Independence Avenue SW., Stop 2308, Washington, DC 20250-2308. This system may contain records originated by USDA agencies and contained in the USDA's other systems of records. Where appropriate, coordination will be effected with the appropriate USDA agency regarding an individual's contesting of records in the relevant system of records.

EXEMPTIONS CLAIMED FOR THE SYSTEM:

None.

SYSTEM OF RECORDS:

USDA/OIG-9

SYSTEM NAME:

Audit Records.

SECURITY CLASSIFICATION:

None.

SYSTEM LOCATION:

U.S. Department of Agriculture, National Information Technology Center, 8930 Ward Parkway, Kansas City, Missouri 64114; OIG headquarters office, U.S. Department of Agriculture, 1400 Independence Avenue SW., Washington, DC 20250; and OIG Audit regional offices and suboffices, listed in Appendix A.

CATEGORIES OF INDIVIDUALS COVERED BY THE SYSTEM:

Individuals covered consist of: (1) USDA program participants and USDA employees who are associated with an activity that OIG is auditing or reviewing; (2) requesters of an OIG audit or other activity; and (3) persons and entities performing some other role of significance to the OIG's efforts, such as relatives or business associates of USDA program participants or employees, potential witnesses, or persons who represent legal entities that are connected to an OIG audit or other activity. The system also tracks information pertaining to OIG staff handling the audit or other activity, and may contain names of relevant staff in other agencies and private sector entities.

CATEGORIES OF RECORDS IN THE SYSTEM:

Records consist of materials compiled and/or generated in connection with audits and other activities performed by OIG staff. These materials include workpapers and information regarding the planning, conduct, and resolution of audits and reviews of USDA programs and participants in those programs, internal legal assistance requests, information requests, responses to such requests, and reports of findings. The information consists of audit work papers and reports.

AUTHORITY FOR MAINTENANCE OF THE SYSTEM:

IG Act of 1978, 5 U.S.C. app. 3; 5 U.S.C. 301.

PURPOSE(S):

The purpose of this system is to maintain a management information system for USDA OIG audit projects and personnel and to assist in the accurate and timely conduct of audits.

ROUTINE USES OF RECORDS MAINTAINED IN THE SYSTEM, INCLUDING CATEGORIES OF USERS AND THE PURPOSES OF SUCH USES:

Routine Uses 1 through 16, 19, 20, and 21 apply.

DISCLOSURE TO CONSUMER REPORTING AGENCIES:

Disclosures pursuant to 5 U.S.C. 552a(b)(12): Disclosures may be made from this system to “consumer reporting agencies” as defined in the Fair Credit Reporting Act (15 U.S.C. 1681a(f)) or the Federal Claims Collection Act of 1966 (31 U.S.C. 3701(a)(3)).

POLICIES AND PRACTICES FOR STORING, RETRIEVING, ACCESSING, RETAINING AND DISPOSING OF RECORDS IN THE SYSTEM:

Storage:

The system consists of computerized and paper records.

Retrievability:

Information in the system generally can be retrieved by OIG personnel in headquarters and the regions. Information is generally retrieved by audit assignment number. However, information can be retrieved by using alphanumeric queries and personal identifiers.

Safeguards:

Normal computer security is maintained including password protection. File folders are kept in limited-access areas during duty hours and in locked offices during nonduty hours.

Retention and Disposal:

The records are retained and disposed of in compliance with OIG's record disposition authority, approved by NARA.

SYSTEM MANAGER(S) AND ADDRESS(ES):

Assistant Inspector General for Audit, Office of Inspector General, U.S. Department of Agriculture, 1400 Independence Avenue SW., Washington, DC 20250.

NOTIFICATION PROCEDURE:

Any individual may request information regarding this system of records, or information as to whether the system contains records pertaining to him/her, from the Counsel to the Inspector General, Office of Inspector General, U.S. Department of Agriculture, 1400 Independence Avenue SW., Stop 2308, Washington, DC 20250-2308.

RECORD ACCESS PROCEDURES:

An individual may request access to a record in this system which pertains to him/her by submitting a written request to the Counsel to the Inspector General, Office of Inspector General, U.S. Department of Agriculture, 1400 Independence Avenue SW., Stop 2308, Washington, DC 20250-2308.

CONTESTING RECORDS PROCEDURES:

An individual may contest information in this system which pertains to him/her by submitting a written request to the Counsel to the Inspector General, Office of Inspector General, U.S. Department of Agriculture, 1400 Independence Avenue SW., Stop 2308, Washington, DC 20250-2308.

RECORD SOURCE CATEGORIES:

Information in the system is obtained from various source documents related to audits, including USDA, other federal agencies, the Government Accountability Office, law enforcement agencies, program participants including individuals and business entities, subject individuals, complainants, witnesses, and other non-governmental sources.

EXEMPTIONS CLAIMED FOR THE SYSTEM:

None.

Appendix A

OIG Regional Offices/Investigations

Northeast Region/Investigations, 26 Federal Plaza, Room 1409, New York, New York 10278-0004

Southeast Region/Investigations, 401 West Peachtree Street NW., Room 2329, Atlanta, Georgia 30308

Midwest Region/Investigations, 111 North Canal Street, Suite 325, Chicago, Illinois 60606-7295

Southwest Region/Investigations, 101 South Main, Room 311, Temple, Texas 76501

Western Region/Investigations, 1333 Broadway, Suite 400, Oakland, California 94612

OIG Regional Offices/Audit

Eastern Region/Audit, 5601 Sunnyside Avenue, Suite 2-2230, Beltsville, Maryland 20705-5300

Midwestern Region/Audit, 8930 Ward Parkway, Suite 3016 Kansas City, MO 64114

Western Region/Audit, 1333 Broadway, Suite 400, Oakland, California 94612

OIG/Audit Sub Offices

401 West Peachtree Street NW., Room 2328, Atlanta, Georgia 30308

111 North Canal Street, Suite 325, Chicago, Illinois 60606-7295

3811 NW 40th Terrace, Suite 200, Gainesville, Florida 32606

233 Cumberland Bend, Room 118, Nashville, Tennessee 37228

4407 Bland Road, Room 200, Raleigh, North Carolina 27609

299 East Broward Boulevard, Federal Building, Room 410, Box 14, Ft. Lauderdale, Florida 33301

200 North High Street, Room 346, Columbus, Ohio 43215-2408

375 Jackson Street, Suite 300, St. Paul, Minnesota 55101-1850

1114 Commerce Street, Santa Fe Building, Suite 202, Dallas, Texas 75242

100 Centennial Mall North, Room 276, Lincoln, Nebraska 68508

101 South Main, Room 324, Temple, Texas 76501

13800 Old Gentilly Road, Building 350, Post L4, New Orleans, Louisiana 70129

4300 Goodfellow Boulevard, Building 104F, 2nd Floor, Pole L2, St. Louis, Missouri 63120

100 SW Main Street, Suite 625, Portland, Oregon 97204-2893

OIG/Investigations Sub Offices

5601 Sunnyside Avenue, Suite 2-2230, Beltsville, Maryland 20705-5300

660 American Avenue, Suite 201, King of Prussia, Pennsylvania 19406-4032

Federal Building, 400 North 8th Street, Room 526, Richmond, Virginia 23240-1001

1 Stiles Road, Suite 304, Salem, New Hampshire 03079

344 West Genesee Street, Suite 202, Syracuse, New York 13202

700 Grant Street, Suite 2110, Pittsburgh, Pennsylvania 15219

233 Cumberland Bend, Room 118, Nashville, Tennessee 37228

950 22nd Street North, Suite 976, Birmingham, Alabama 35203-3702

DHS/HIS—RAC/Sarasota, 3614 3rd Street West, Bradenton, Florida 34205

3811 NW 40th Terrace, Suite 200, Gainesville, Florida 32606

299 East Broward Boulevard, Federal Building, Room 410, Box 14, Ft. Lauderdale, Florida 33301

P.O. Box 952973, Lake Mary, Florida 32795

U.S. Courthouse Building, 601 West Broadway, Room 617, Louisville, Kentucky 40202

4407 Bland Road, Room 110, Raleigh, North Carolina 27609

200 North High Street, Room 350, Columbus, Ohio 43215-2408

3720 Benner Road, Miamisburg, Ohio 45342

2852 Eyde Parkway, Suite 220, East Lansing, Michigan 48823-6321

P.O. Box 768, Indian River, Michigan 49749

6039 Lakeside Boulevard, Indianapolis, Indiana 46278-1989

Metzenbaum U.S. Courthouse, 201 Superior, Suite 550, Cleveland, Ohio 44114

375 Jackson Street, Suite 300, St. Paul, Minnesota 55101-1850

210 Walnut Street, Suite 573, Des Moines, Iowa 50309

5000 South Broadband Lane, Suite 117, Sioux Falls, South Dakota 57108-2261

304 East Broadway, Room 336, Bismarck, North Dakota 58501

103 Holmes Street East #118, Detroit Lakes, Minnesota 56501

3120 South Business Drive, #291, Sheboygan, Wisconsin 53081

1114 Commerce Street, Santa Fe Building, Suite 202, Dallas, Texas 75242

111 East Capitol Street, Suite 425, Jackson, Mississippi 39201

Southwood Tower, 19221 I-45 South, Suite 350, Shenandoah, Texas 77385

700 West Capitol, Room 2528, Little Rock, Arkansas 72201

F. Edward Hebert Building, 600 South Maestri Place, Room 833, New Orleans, Louisiana 70130

215 Dean A. McGee Street, Room 416, Oklahoma City, Oklahoma 73102

8930 Ward Parkway, Suite 3016, Kansas City, Missouri 64114

1222 Spruce Street, Room 2.202E, St. Louis Missouri 63103

100 Centennial Mall North, Room 282, Lincoln, Nebraska 68508

300 5th Avenue, Suite 750, Seattle, Washington 98104-3616

21660 E Copley Drive, Suite 370, Diamond Bar, California 91765

401 West Washington St., Space 77, Suite 425, Phoenix, Arizona 85003-2162

FBI, 5425 West Amelia Earhart Drive, Salt Lake City, Utah 84116

501 I Street, Suite 12-200, Sacramento, California 95814

100 SW Main Street, Suite 625, Portland, Oregon 97204-2893

2440 Tulare Street, Suite 230, Fresno, California 93721-2249

610 West Ash Street, Suite 703, San Diego, California 92101-3346

Denver Federal Center, Building 67, Room 112, 1 Denver Federal Center, Denver, Colorado 80225

[FR Doc. 2015-19854 Filed 8-12-15; 8:45 am]

BILLING CODE 3410-23-P